DEPARTMENT OF ENERGY

Federal Energy Regulatory Commission

Notice of Effectiveness of Exempt Wholesale Generator Status

| Docket No.
Rainbow Energy Center, LLC | EG21-194-000
Tulare Solar Center, LLC | EG21-195-000
Boulder Solar III, LLC | EG21-196-000
Ho'ohana Solar 1, LLC | EG21-197-000
Glacier Sands Wind Power, LLC | EG21-198-000
Kahana Solar, LLC | EG21-199-000
Arlington Energy Center II, LLC | EG21-200-000
Barbers Point Solar, LLC | EG21-201-000
Paeahu Solar LLC | EG21-202-000
Hale Kuawehi Solar LLC | EG21-203-000
Minco Wind Energy III, LLC | EG21-204-000
Crossett Power Management LLC | EG21-205-000
Lund Hill Solar, LLC | EG21-206-000
Dichotomy Power Maine LLC | EG21-207-000
Arlington Solar, LLC | EG21-208-000
Martinsville OnSite Generation, LLC | EG21-209-000
South River OnSite Generation, LLC | EG21-210-000

Take notice that during the month of September 2021, the status of the above-captioned entities as Exempt Wholesale Generators became effective by operation of the Commission's regulations. 18 CFR 366.7(a) (2020).

Dated: October 5, 2021.
Kimberly D. Bose,
Secretary.

[FR Doc. 2021-22129 Filed 10-8-21; 8:45 am]

BILLING CODE 6717-01-P